FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington DC 20551-0001, not later than January 1, 2020.

A. Federal Reserve Bank of Kansas City (Dennis Denney, Assistant Vice President) 1 Memorial Drive, Kansas City, Missouri 64198-0001:

1. Trenton Fairbank, Cimarron, Kansas; to join the Butcher Family Control Group, and to acquire voting shares of First National Agency, Inc. and thereby indirectly acquire voting shares of First National Bank in Cimarron, both of Cimarron, Kansas.

B. Federal Reserve Bank of Minneapolis (Mark A. Rauzi, Vice President) 90 Hennepin Avenue, Minneapolis, Minnesota 55480-0291:

1. Karen Neidhardt and Ann Musser, both of Tampa, Florida, and Jane Farris, Birmingham, Alabama; to acquire voting shares of Bozeman Bancorp, Inc. and thereby indirectly acquire voting shares of the Bank of Bozeman, both of Bozeman, Montana.

In addition, the Ann Lenore Musser Irrevocable Trust, Karen Neidhardt and Jane Farris, as co-trustees; the Ann Neidhardt Musser Irrevocable Trust, Karen Neidhardt, James Jorgenson, and Jane Farris, as co-trustees; the William John Musser Irrevocable Trust, Karen Neidhardt and Jane Farris, as co-trustees; the Sarah Ann Musser Irrevocable Trust, Karen Neidhardt and Jane Farris, as co-trustees; the Jane Ellen Neidhardt Irrevocable Trust, Karen Neidhardt and Ann Musser, as co-trustees; the Jane Neidhardt Farris Irrevocable Trust, Karen Neidhardt, James Jorgenson, and Ann Musser, as co-trustees; the Luke Jorgenson Farris Irrevocable Trust, Karen Neidhardt and Ann Musser, as co-trustees; the George Leonelli Farris Irrevocable Trust, Karen Neidhardt and Ann Musser, as co-trustees; all of Kenmare, North Dakota; as members of the Jorgenson Family Control Group to acquire voting shares of Bozeman Bancorp, Inc. and thereby indirectly acquire voting shares of Bank of Bozeman.

Board of Governors of the Federal Reserve System, December 12, 2019.
Yao-Chin Chao,
Assistant Secretary of the Board.

[FR Doc. 2019-27187 Filed 12-17-19; 8:45 am]

BILLING CODE 6210-01-P